ENVIRONMENTAL PROTECTION AGENCY

40 CFR Part 52

[EPA-R01-OAR-2007-0452; A-1-FRL-8491-6]

Approval and Promulgation of Air Quality Implementation Plans; Connecticut; Interstate Transport of Pollution

AGENCY: Environmental Protection Agency (EPA).

ACTION: Proposed rule.

SUMMARY: EPA is proposing to approve a State Implementation Plan (SIP) revision submitted by the Connecticut Department of Environmental Protection (CTDEP). This SIP revision addresses the provisions of the Clean Air Act that require each state to submit a SIP to address emissions that may adversely affect another state's air quality through interstate transport. CTDEP has adequately addressed the four distinct elements related to the impact of interstate transport of air pollutants. These include prohibiting significant contribution to downwind nonattainment of the National Ambient Air Quality Standards (NAAQS), interference with maintenance of the NAAQS, interference with plans in another state to prevent significant deterioration of air quality, and interference with efforts of other states to protect visibility. The intended effect of this action is to propose approval of this revision to the Connecticut SIP. This action is being taken under the Clean Air Act.

DATES: Written comments must be received on or before December 5, 2007.

ADDRESSES: Submit your comments, identified by Docket ID Number EPA-R01-OAR-2007-0452 by one of the following methods:

1. http://http://www.regulations.gov: Follow the on-line instructions for submitting comments.

2. E-mail: arnold.anne@epa.gov.

3. Fax: (617) 918-0047. Mail: “Docket Identification Number EPA-R01-OAR-2007-0452”, Anne Arnold, U.S. Environmental Protection Agency, EPA New England Regional Office, One Congress Street, Suite 1100 (mail code CAQ), Boston, MA 02114-2023. Hand Delivery or Courier. Deliver your comments to: Anne Arnold, Manager, Air Quality Planning Unit, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding legal holidays.

Instructions: Direct your comments to Docket ID No. EPA-R01-OAR-2007-0452. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

In addition to the publicly available docket materials available for inspection electronically in the Federal Docket Management System at http://www.regulations.gov, and the hard copy available at the Regional Office, which are identified in the ADDRESSES section of this Federal Register, copies of the state submittal are also available for public inspection during normal business hours, by appointment at the, Bureau of Air Management, Department of Environmental Protection, State Office Building, 79 Elm Street, Hartford, CT 06106-1630.

FOR FURTHER INFORMATION CONTACT: Richard P. Burkhart, Air Quality Planning Unit, U.S. Environmental Protection Agency, EPA New England Regional Office, One Congress Street, Suite 1100 (CAQ), Boston, MA 02114-2023, telephone number (617) 918-1664, fax number (617) 918-0664, e-mail Burkhart.Richard@epa.gov.

SUPPLEMENTARY INFORMATION: Throughout this document whenever “we,” “us,” or “our” is used, we mean EPA.

Organization of this document. The following outline is provided to aid in locating information in this preamble.

I. Rulemaking Information

II. Proposed Action

III. Statutory and Executive Order Reviews

I. Rulemaking Information

EPA is proposing to approve a SIP revision submitted by the Connecticut Department of Environmental Protection (CTDEP). This SIP revision addresses the requirements of the Clean Air Act (CAA) section 110(a)(2)(D)(i). This CAA section requires each state to submit a SIP that prohibits emissions that could adversely affect another state. The SIP must prevent sources in the state from emitting pollutants in amounts which will: (1) Contribute significantly to downwind nonattainment of the NAAQS; (2) interfere with maintenance of the NAAQS; (3) interfere with provisions to prevent significant deterioration of air quality; and (4) interfere with efforts to protect visibility. EPA issued guidance on August 15, 2006, relating to SIP submissions to meet the requirements of section 110(a)(2)(D)(i). ¹Connecticut submitted their SIP revision on March 13, 2007.

¹ “Guidance for State Implementation Plan (SIP) Submissions to Meet Current Outstanding Obligations Under Section 110(a)(2)(D)(i) for the 8-Hour Ozone and PM2.5 National Ambient Air Quality Standards,” Memorandum from William T. Harnett, EPA OAQPS, to EPA Regional Air Division Directors, August 15, 2006.

On May 12, 2005, EPA promulgated the Clean Air Interstate Rule (CAIR). (See 70 FR 25162.) CAIR requires States to reduce emissions of sulfur dioxide (SO2) and nitrogen oxides (NOX) that significantly contribute to, and interfere with maintenance of, the national ambient air quality standards for fine particulates and/or ozone in any downwind state. CAIR establishes State budgets for SO2 and NOX and requires States to submit SIP revisions that implement these budgets in States that EPA concluded did contribute to nonattainment in downwind states.

Connecticut is a CAIR state for ozone only (70 FR 25162; May 12, 2005). Since Connecticut is in CAIR, EPA has already concluded that Connecticut can meet its 110(a)(2)(D)(i) obligations to address the significant contribution and interference with maintenance requirements by complying with the CAIR requirements. Connecticut has proposed its CAIR SIP and submitted it to EPA for parallel processing on April 26, 2007. EPA proposed approval of Connecticut's CAIR SIP on August 31, 2007 (72 FR 50305). Connecticut submitted its final adopted CAIR SIP on September 12, 2007. Assuming EPA ultimately approves Connecticut's CAIR SIP, EPA will have determined that Connecticut has addressed section 110(a)(2)(D)(i) for ozone.

For fine particles (PM2.5), the EPA CAIR modeling determined that the Connecticut emissions do not meet or exceed the 0.2 μg/m³ average annual threshold that EPA established to determine significant PM2.5 impact on another state in the projection year 2010. This shows that emissions from Connecticut do not contribute significantly to downwind nonattainment of the annual PM2.5 standard. In addition, air quality modeling conducted by Connecticut also concluded that emissions of PM2.5 do not significantly contribute to downwind PM2.5 nonattainment.² Connecticut, however, does contain a nonattainment area for the annual PM2.5 standard and is required to prepare a PM2.5 attainment demonstration. Connecticut is on track to meet the April 2008 submittal deadline for the attainment demonstration SIP for the annual PM2.5 standard.³ EPA has no evidence that emissions of other pollutants in Connecticut contribute to downwind nonattainment. Therefore, EPA has determined that through the above actions, Connecticut has adequately addressed the first two elements of the CAA section 110(a)(2)(D)(i) requirements (i.e., to prevent emissions that contribute significantly to downwind nonattainment of, or interfere with maintenance of, the NAAQS).

² Connecticut performed industrial source complex air quality modeling for PM2.5. The details of this modeling can be found in the Connecticut technical support document, “CT DEP, Bureau of Air Management—Recommendation for PM2.5 Designation Technical Support Document,” available in the docket for this action.

³ On December 17, 2006, EPA revised the 24-hour PM2.5 standard. Nonattainment areas for the new standard have not yet been determined.

The third element CTDEP addressed was prevention of significant deterioration (PSD). For ozone and particulate matter, the state has met the obligation by confirming that major sources in the state are currently subject to PSD and/or New Source Review (NSR) programs that implement the 8-hour ozone standard and the PM2.5 standard.

CTDEP is addressing the fourth element of visibility through its participation in MANE-VU, which is the regional planning organization for addressing visibility in the Northeastern and Mid-Atlantic States. MANE-VU has undertaken extensive modeling in support of Regional Haze SIP development. Although it is not possible at this time to make a final assessment whether there is any interference with measures in the applicable SIP for another State designed to “protect visibility” for the 8-hour ozone and PM2.5 NAAQS until the Connecticut regional haze SIP is developed and approved, preliminary results indicate that Connecticut has a minimal contribution to the “visibility impact” on any Class 1 area.⁴ Connecticut will be in a more advantageous position to address the visibility projection requirements once the final regional haze SIP has been developed. Regional haze SIPs are due December 17, 2007.

⁴ “Contributions to Regional Haze in the Northeast and Mid-Atlantic States: MANE-VU Contribution Assessment,” Northeast States for Coordinated Air Use Management (NESCAUM), August 2006.

A public hearing on Connecticut's section 110(a)(2)(D)(i) SIP was held by the state on January 30, 2007. No adverse comments were received.

II. Proposed Action

EPA is proposing to approve the CAA section 110(a)(2)(D)(i) SIP revision submitted by Connecticut on March 13, 2007. EPA has reviewed Connecticut's 110(a)(2)(D)(i) SIP and has found that it is consistent with EPA's guidance and the relevant CAA requirements as discussed above. EPA is soliciting public comments on the issues discussed in this document. These comments will be considered before taking final action.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

List of Subjects in 40 CFR Part 52

Environmental protection, Air pollution control, Intergovernmental relations, Nitrogen dioxide, Ozone, Particulate matter, Reporting and recordkeeping requirements, Sulfur oxides, Volatile organic compounds.

Authority: 42 U.S.C. 7401 et seq.

Dated: October 23, 2007.
Robert W. Varney,
Regional Administrator, EPA New England.

[FR Doc. E7-21690 Filed 11-2-07; 8:45 am]

BILLING CODE 6560-50-P